ENVIRONMENTAL PROTECTION AGENCY

40 CFR Part 52

[EPA-R06-OAR-2007-0523; FRL-8690-5]

Approval and Promulgation of Implementation Plans; Texas; Control of Emissions of Nitrogen Oxides (NOX) From Stationary Sources

AGENCY: Environmental Protection Agency (EPA).

ACTION: Proposed rule.

SUMMARY: The EPA is proposing approval of rules for the control of NOX emissions into the Texas State Implementation Plan (SIP). The Texas Commission on Environmental Quality (TCEQ) submitted this revision to the SIP to us on May 30, 2007 (May 30, 2007 SIP revision). The May 30, 2007 SIP revision is a substantive and non-substantive recodification and reformatting of the NOX rules currently approved in the Texas SIP. This revision also includes a part of the NOX reductions needed for the Dallas/Forth Worth (D/FW) area to attain the Federal 8-hour ozone National Ambient Air Quality Standard (NAAQS). This rulemaking covers four separate actions. First, we are proposing to approve the repeal of the current Chapter 117 rules that correspond to the non-substantive new rules and the revised and reformatted rules because the reformatted revision will better accommodate future additions/revisions to the rules. See section 1 of this document. Second, we are proposing to approve revisions to the Texas SIP that add new controls for the D/FW major NOX point sources. We are not, however, taking action on the Texas rules for cement plants in this document. The rules for cement plants are being evaluated in a separate Federal Register document. See sections 5, 6, 13, and 14 of this document. Third, we are proposing to approve revisions to the Texas SIP that add new controls for D/FW minor NOX sources. See section 15 of this document. Fourth, we are proposing to approve revisions to the Texas SIP that add new controls for combustion sources in East Texas. See section 16 of this document. These NOX reductions will assist the D/FW area to attain the 8-hour ozone NAAQS. We are proposing approval of these actions as meeting the requirements of section 110 and part D of the Federal Clean Air Act (the Act).

DATES: Comments must be received on or before August 11, 2008.

ADDRESSES: Submit your comments, identified by Docket No. EPA-R06-OAR-2007-0523, by one of the following methods:

• Federal eRulemaking Portal: http://www.regulations.gov. Follow the on-line instructions for submitting comments.

• U.S. EPA Region 6 “Contact Us” Web site: http://epa.gov/region6/r6coment.htm. Please click on “6PD” (Multimedia) and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2007-0523. The EPA's policy is that all comments received will be included in the public docket without change and may be made available online at www.regulations.gov, including any personal information provided, unless the comment includes information claimed to be Confidential Business Information (CBI) or other information the disclosure of which is restricted by statute. Do not submit information through www.regulations.gov or e-mail that you consider to be CBI or otherwise protected from disclosure. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cent per page fee for making photocopies of documents. On the day of the visit, please check in at the EPA Region 6 reception area at 1445 Ross Avenue, Suite 700, Dallas, Texas 75202-2733.

The State submittal is also available for public inspection at the State Air Agency listed below during official business hours by appointment:

Texas Commission on Environmental Quality, Office of Air Quality, 12124 Park 35 Circle, Austin, Texas 78753.

FOR FURTHER INFORMATION CONTACT: Mr. Alan Shar, Air Planning Section (6PD-L), Environmental Protection Agency, Region 6, 1445 Ross Avenue, Suite 700, Dallas, Texas 75202-2733, telephone (214) 665-6691, fax (214) 665-7263, e-mail address shar.alan @epa.gov.

SUPPLEMENTARY INFORMATION: Throughout this document “we,” “us,” and “our” refer to EPA.

I. General Information

What Should I Consider as I Prepare My Comments for EPA?

A. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

B. Tips for Preparing Your Comments. When submitting comments, remember to:

• Identify the rulemaking by docket number and other identifying information (subject heading, Federal Register date and page number).

• Follow directions—The agency may ask you to respond to specific questions or organize comments by referencing a CFR part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

Table of Contents

1. What are we proposing to approve?

2. What is the relationship between the May 30, 2007 SIP revision and the ozone attainment demonstration plan for the D/FW?

3. What sections of the May 30, 2007, SIP revision will become part of Texas SIP?

4. What sections of the May 30, 2007, SIP revision will not become part of Texas SIP?

5. What sections of the May 30, 2007, SIP revision are we not acting upon in this proposal?

6. What Counties in the D/FW area will the May 30, 2007, SIP revision affect?

7. What Counties in East and Central Texas will the May 30, 2007, SIP revision affect?

8. What is Ozone and why do we regulate it?

9. What are NOX?

10. What is a SIP?

11. What areas in Texas will today's rulemaking action affect?

12. What is the section 110(l) “anti-backsliding” analysis for the May 30, 2007 SIP revision?

13. What are the NOX emissions requirements for point sources in the D/FW area that we are proposing to approve?

14. What are the NOX emission requirements for stationary diesel engines in the D/FW area that we are proposing to approve?

15. What are the NOX emissions specifications for minor sources of NOX in the D/FW area that we are proposing to approve?

16. What are the NOX emissions requirements for stationary reciprocating internal combustion engines (RICE) in East Texas that we are proposing to approve?

17. What are the compliance schedules for NOX emissions sources that we are proposing to approve?

1. What are we proposing to approve?

On May 30, 2007, TCEQ submitted rule revisions to 30 TAC, Chapter 117, “Control of Air Pollution from Nitrogen Compounds,” as a revision to the Texas SIP for point sources of NOX (May 30, 2007 SIP revision). The State of Texas submitted the May 30, 2007 SIP revision to us, to, among other things, provide a portion of the NOX reductions needed for the D/FW area to attain the Federal 8-hour ozone NAAQS. We are taking four separate actions in this rulemaking action.

First, these revisions involve repealing the current Chapter 117 rules, and simultaneously proposing to approve into the Texas SIP, a new reformatted Chapter 117. We are proposing to approve the repeal of the current Chapter 117, and the recodification and reformatting of Chapter 117 because the reformatted revision will better accommodate future additions/revisions to the rules and will maintain consistency between the State rules and Federal SIP. We are proposing to approve all of the non-substantive reformatted, restructured, renumbered, reorganized, and administrative revisions to the wording of Chapter 117 into Texas SIP. We want to clarify that the specifically identified rules do not make any changes to the substance of the rules that we previously approved into the Texas SIP, Chapter 117. By approving the repeal of the current Texas SIP, Chapter 117's rules we are making it clear that the new rules replace the previous rules in their entirety. We are proposing to approve these non-substantive reformatted, restructured, renumbered, reorganized, and administrative revisions to the wording of Chapter 117 under section 110 and part D of the Act. For a full list of affected sections see section 3 of this document.

Second, we are proposing to approve revisions to the D/FW NOX major point source rules. See sections 5, 6, 13, and 14 of this document. Sections 117.410(a), 117.410(b) and 117.310(b) contain substantive changes in the reformatted Chapter 117 rules that result in additional NOX reductions. These reductions were not previously a part of EPA-approved Texas SIP, Chapter 117.

Third, we are proposing to approve revisions to the D/FW minor source rules for the control of NOX. See section 15 of this document. Sections 117.2010(a) and 117.2110(a) contain substantive changes in the reformatted Chapter 117 rules that result in additional NOX reductions which will help the DFW area to attain the 1997 8-hour ozone standard. These reductions were not previously a part of EPA-approved Texas SIP, Chapter 117.

Fourth, we are proposing to approve revisions to the rules for the control of NOX emissions from combustion sources in East Texas. See section 16 of this document. Sections 117.3310(a) and 117.3010(a) contain substantive changes in the reformatted Chapter 117 rules that result in 22.4 Tons Per Day (TPD) of cumulative NOX reductions. These reductions were not previously a part of EPA-approved Texas SIP, Chapter 117.

Tables 1 and 2 list the section of the Texas rules with significant modifications and minor substantive modifications, respectively. Since Texas has reformatted and recodified the rule, the remaining sections of Chapter 117 are affected by this revision in nonsubstantive ways. Table 3 lists all of the sections that are impacted by this revision both in substantive and in nonsubstantive ways.

Table 1 contains a list of the sections of Chapter 117 with significant modifications. Also see Figure 1 of 30 TAC Chapter 117 at 31 Texas Register 10899, published December 29, 2006.

Table 1.—Description and Sections of 30 TAC, Chapter 117 Proposed for Modification
Description | Section
Subchapter A: Definitions | 117.10(2), 117.10(14), 117.10(24), 117.10(29), 117.10(44), and 117.10(51).
Subchapter B, Division 4, Dallas-Fort Worth Eight Hour Ozone Nonattainment Area Major Sources | 117.400-117.456.
Removal from Subchapter B, Division 2 after compliance date for Division 4 | 117.200(b).
Subchapter C, Division 4, Dallas-Fort Worth Eight Hour Ozone Nonattainment Area Utility Electric Generation Sources | 117.1300-117.1356.
Removal from Subchapter C, Division 2 after compliance date for Division 4 | 117.1100(c)
Subchapter D, Division 2, Dallas-Fort Worth Eight Hour Ozone Nonattainment Area Minor Sources | 117.2100-117.2145.
Subchapter E: Multi-Region Combustion Control, Division 4, East Texas Combustion | 117.3300-117.3345.
Subchapter H: Administrative Provisions, Division 1, Compliance Schedules | 117.9030, 117.9130, 117.9210, 117.9320, and 117.9340.

The following Table 2 contains a list of changes to existing Chapter 117 language that are minor in nature. Also see Figure 1 of 30 TAC Chapter 117 at 31 Texas Register 10900, published December 29, 2006.

Table 2.—Description and Sections of 30 TAC, Chapter 117 With Minor Changes
Description | Section
Add equation for oxygen correction of pollutant concentration | 117.10(35).
Update utility boiler definition and utility electric generation rules applicability consistent with East and Central Texas utility rules | 117.10(52), 117.1000, 117.1100, and 117.1200.
Update emergency fuel oil exemption to include only appropriate reliability councils | 117.1003(c), 117.1103(c), and 117.1203(c).
Include list of ammonia methods in test methods procedures | 117.8000(c).
Allow major sources to petition ED for shorter test times | 117.8000(b)
Change references of “upsets” to “emissions events.” | 117.123(k), 117.223(k), 117.323(k), 117.1020(k), 117.1120(k), and 117.1220(k).
Clarify system cap equations to allow for adjustment period after startup | 117.320(c).
Additional data substitution option for major sources subject to MECT | 117.340(c).
Expand engine low use requirement from quarterly testing to BPA and D/FW | 117.8140(b).
Update references to 101.222 to be consistent with current | 101.222, 117.145(a), 117.245(a), 117.345(a), 117.1045(a), 117.1145(a), 117.1245(a), and 117.3045(a).
Clarify compliance schedule for industrial EGFs to submit level of activity information | 117.9020(2)(B).

For more details on each of these actions, you can refer to our Technical Support Document (TSD) developed in conjunction with this rulemaking action. We are proposing to approve revisions to 30 TAC, Chapter 117, described above as actions one through four, because these revisions to 30 TAC Chapter 117 will enhance the Texas SIP for controlling NOX emissions from stationary sources and the NOX emission reductions will assist the D/FW area to attain the 1997 8-hour ozone NAAQS. Furthermore, approving the non-substantive changes will maintain consistency between the State rules and Federal SIP.

2. What is the relationship between the May 30, 2007 SIP revision and the ozone attainment demonstration plan for the D/FW?

The resulting emissions reductions of NOX, an ozone precursor, from this SIP revision will assist in bringing the D/FW area into attainment with the 8-hour ozone NAAQS, and help with the maintenance of the ozone NAAQS in the East and Central parts of the State. We will be reviewing the 8-hour ozone attainment demonstration plan in a separate rulemaking action.

3. What sections of the May 30, 2007, SIP revision will become part of Texas SIP?

Table 3 below contains a summary list of the sections of 30 TAC, Chapter 117 that Texas submitted on May 30, 2007, for point sources of NOX that we are proposing become part of the Texas SIP. Table 3 includes both the sections with substantive changes and the nonsubstantive changes.

Table 3.—Section Numbers and Section Descriptions of 30 TAC, Chapter 117 Affected by the May 30, 2007, Proposed Rule Revision
Section No. | Description
Section 117.10 | Definitions.
Section 117.100 | Applicability.
Section 117.103 | Exemptions.
Section 117.105 | Emission Specifications for Reasonably Available Control Technology (RACT).
Section 117.110 | Emission Specifications for Attainment Demonstration.
Section 117.115 | Alternative Plant-Wide Emission Specifications.
Section 117.123 | Source Cap.
Section 117.130 | Operating Requirements.
Section 117.135 | Initial Demonstration of Compliance.
Section 117.140 | Continuous Demonstration of Compliance.
Section 117.145 | Notification, Recordkeeping, and Reporting Requirements.
Section 117.150 | Initial Control Plan Procedures.
Section 117.152 | Final Control Plan Procedures for Reasonably Available Control Technology.
Section 117.154 | Final Control Plan Procedures for Attainment Demonstration Emission Specifications.
Section 117.156 | Revision of Final Control Plan.
Section 117.200 | Applicability.
Section 117.203 | Exemptions.
Section 117.205 | Emission Specifications for Reasonably Available Control Technology (RACT).
Section 117.210 | Emission Specifications for Attainment Demonstration.
Section 117.215 | Alternative Plant-Wide Emission Specifications.
Section 117.223 | Source Cap.
Section 117.230 | Operating Requirements.
Section 117.235 | Initial Demonstration of Compliance.
Section 117.240 | Continuous Demonstration of Compliance.
Section 117.245 | Notification, Recordkeeping, and Reporting Requirements.
Section 117.252 | Final Control Plan Procedures for Reasonably Available Control Technology.
Section 117.254 | Final Control Plan Procedures for Attainment Demonstration Emission Specifications.
Section 117.256 | Revision of Final Control Plan.
Section 117.300 | Applicability.
Section 117.303 | Exemptions.
Section 117.305 | Emission Specifications for Reasonably Available Control Technology (RACT).
Section 117.310 | Emission Specifications for Attainment Demonstration.
Section 117.315 | Alternative Plant-Wide Emission Specifications.
Section 117.320 | System Cap.
Section 117.323 | Source Cap.
Section 117.330 | Operating Requirements.
Section 117.335 | Initial Demonstration of Compliance.
Section 117.340 | Continuous Demonstration of Compliance.
Section 117.345 | Notification, Recordkeeping, and Reporting Requirements.
Section 117.350 | Initial Control Plan Procedures.
Section 117.352 | Final Control Plan Procedures for Reasonably Available Control Technology.
Section 117.354 | Final Control Plan Procedures for Attainment Demonstration Emission Specifications.
Section 117.356 | Revision of Final Control Plan.
Section 117.400 | Applicability.
Section 117.403 | Exemptions.
Section 117.410 | Emission Specifications for Eight-Hour Attainment Demonstration.
Section 117.423 | Source Cap.
Section 117.430 | Operating Requirements.
Section 117.435 | Initial Demonstration of Compliance.
Section 117.440 | Continuous Demonstration of Compliance.
Section 117.445 | Notification, Recordkeeping, and Reporting Requirements.
Section 117.450 | Initial Control Plan Procedures.
Section 117.454 | Final Control Plan Procedures for Attainment Demonstration Emission Specifications.
Section 117.456 | Revision of Final Control Plan.
Section 117.1000 | Applicability.
Section 117.1003 | Exemptions.
Section 117.1005 | Emission Specifications for Reasonably Available Control Technology (RACT).
Section 117.1010 | Emission Specifications for Attainment Demonstration.
Section 117.1015 | Alternative System-Wide Emission Specifications.
Section 117.1020 | System Cap.
Section 117.1035 | Initial Demonstration of Compliance.
Section 117.1040 | Continuous Demonstration of Compliance.
Section 117.1045 | Notification, Recordkeeping, and Reporting Requirements.
Section 117.1052 | Final Control Plan Procedures for Reasonably Available Control Technology.
Section 117.1054 | Final Control Plan Procedures for Attainment Demonstration Emission Specifications.
Section 117.1056 | Revision of Final Control Plan.
Section 117.1100 | Applicability.
Section 117.1103 | Exemptions.
Section 117.1105 | Emission Specifications for Reasonably Available Control Technology (RACT).
Section 117.1110 | Emission Specifications for Attainment Demonstration.
Section 117.1115 | Alternative System-Wide Emission Specifications.
Section 117.1120 | System Cap.
Section 117.1135 | Initial Demonstration of Compliance.
Section 117.1140 | Continuous Demonstration of Compliance.
Section 117.1145 | Notification, Recordkeeping, and Reporting Requirements.
Section 117.1152 | Final Control Plan Procedures for Reasonably Available Control Technology.
Section 117.1154 | Final Control Plan Procedures for Attainment Demonstration Emission Specifications.
Section 117.1156 | Revision of Final Control Plan.
Section 117.1200 | Applicability.
Section 117.1203 | Exemptions.
Section 117.1205 | Emission Specifications for Reasonably Available Control Technology (RACT).
Section 117.1210 | Emission Specifications for Attainment Demonstration.
Section 117.1215 | Alternative System-Wide Emission Specifications.
Section 117.1220 | System Cap.
Section 117.1235 | Initial Demonstration of Compliance.
Section 117.1240 | Continuous Demonstration of Compliance.
Section 117.1245 | Notification, Recordkeeping, and Reporting Requirements.
Section 117.1252 | Final Control Plan Procedures for Reasonably Available Control Technology.
Section 117.1254 | Final Control Plan Procedures for Attainment Demonstration Emission Specifications.
Section 117.1256 | Revision of Final Control Plan.
Section 117.1300 | Applicability.
Section 117.1303 | Exemptions.
Section 117.1310 | Emission Specifications for Eight-Hour Attainment Demonstration.
Section 117.1335 | Initial Demonstration of Compliance.
Section 117.1340 | Continuous Demonstration of Compliance.
Section 117.1345 | Notification, Recordkeeping, and Reporting Requirements.
Section 117.1350 | Initial Control Plan Procedures.
Section 117.1354 | Final Control Plan Procedures for Attainment Demonstration Emission Specifications.
Section 117.1356 | Revision of Final Control Plan.
Section 117.2000 | Applicability.
Section 117.2003 | Exemptions.
Section 117.2010 | Emission Specifications.
Section 117.2030 | Operating Requirements.
Section 117.2035 | Monitoring and Testing Requirements.
Section 117.2045 | Recordkeeping and Reporting Requirements.
Section 117.2100 | Applicability.
Section 117.2103 | Exemptions.
Section 117.2110 | Emission Specifications for Eight-Hour Attainment Demonstration.
Section 117.2130 | Operating Requirements.
Section 117.2135 | Monitoring, Notification, and Testing Requirements.
Section 117.2145 | Recordkeeping and Reporting Requirements.
Section 117.3000 | Applicability.
Section 117.3003 | Exemptions.
Section 117.3005 | Gas-Fired Steam Generation.
Section 117.3010 | Emission Specifications.
Section 117.3020 | System Cap.
Section 117.3035 | Initial Demonstration of Compliance.
Section 117.3040 | Continuous Demonstration of Compliance.
Section 117.3045 | Notification, Recordkeeping, and Reporting Requirements.
Section 117.3054 | Final Control Plan Procedures.
Section 117.3056 | Revision of Final Control Plan.
Section 117.3200 | Applicability.
Section 117.3201 | Definitions.
Section 117.3203 | Exemptions.
Section 117.3205 | Emission Specifications.
Section 117.3210 | Certification Requirements.
Section 117.3215 | Notification and Labeling Requirements.
Section 117.3300 | Applicability.
Section 117.3303 | Exemptions.
Section 117.3310 | Emission Specifications for Eight-Hour Attainment Demonstration.
Section 117.3330 | Operating Requirements.
Section 117.3335 | Monitoring, Notification, and Testing Requirements.
Section 117.3345 | Recordkeeping and Reporting Requirements.
Section 117.4000 | Applicability.
Section 117.4005 | Emission Specifications.
Section 117.4025 | Alternative Case Specific Specifications.
Section 117.4035 | Initial Demonstration of Compliance.
Section 117.4040 | Continuous Demonstration of Compliance.
Section 117.4045 | Notification, Recordkeeping, and Reporting Requirements.
Section 117.4050 | Control Plan Procedures.
Section 117.4100 | Applicability.
Section 117.4105 | Emission Specifications.
Section 117.4125 | Alternative Case Specific Specifications.
Section 117.4135 | Initial Demonstration of Compliance.
Section 117.4140 | Continuous Demonstration of Compliance.
Section 117.4145 | Notification, Recordkeeping, and Reporting Requirements.
Section 117.4150 | Control Plan Procedures.
Section 117.4200 | Applicability.
Section 117.4205 | Emission Specifications.
Section 117.4210 | Applicability of Federal New Source Performance Standards.
Section 117.8000 | Stack Testing Requirements.
Section 117.8010 | Compliance Stack Test Reports.
Section 117.8100 | Emission Monitoring System Requirements for Industrial, Commercial, and Institutional Sources.
Section 117.8110 | Emission Monitoring System Requirements for Utility Electric Generation Sources.
Section 117.8120 | Carbon Monoxide (CO) Monitoring.
Section 117.8130 | Ammonia Monitoring.
Section 117.8140 | Emission Monitoring for Engines.
Section 117.9000 | Compliance Schedule for Beaumont-Port Arthur Ozone Nonattainment Area Major Sources.
Section 117.9010 | Compliance Schedule for Dallas-Fort Worth Ozone Nonattainment Area Major Sources.
Section 117.9020 | Compliance Schedule for Houston-Galveston-Brazoria Ozone Nonattainment Area Major Sources.
Section 117.9030 | Compliance Schedule for Dallas-Fort Worth Eight-Hour Ozone Nonattainment Area Major Sources.
Section 117.9100 | Compliance Schedule for Beaumont-Port Arthur Ozone Nonattainment Area Utility Electric Generation Sources.
Section 117.9110 | Compliance Schedule for Dallas-Fort Worth Ozone Nonattainment Area Utility Electric Generation Sources.
Section 117.9120 | Compliance Schedule for Houston-Galveston-Brazoria Ozone Nonattainment Area Utility Electric Generation Sources.
Section 117.9130 | Compliance Schedule for Dallas-Fort Worth Eight-Hour Ozone Nonattainment Area Utility Electric Generation Sources.
Section 117.9200 | Compliance Schedule for Houston-Galveston-Brazoria Ozone Nonattainment Area Minor Sources.
Section 117.9210 | Compliance Schedule for Dallas-Fort Worth Eight-Hour Ozone Nonattainment Area Minor Sources.
Section 117.9300 | Compliance Schedule for Utility Electric Generation in East and Central Texas.
Section 117.9340 | Compliance Schedule for East Texas Combustion.
Section 117.9500 | Compliance Schedule for Nitric Acid and Adipic Acid Manufacturing Sources.
Section 117.9800 | Use of Emission Credits for Compliance.
Section 117.9810 | Use of Emission Reductions Generated from the Texas Emissions Reduction Plan (TERP).

You can find the entire TCEQ Chapter 117 rules at: http://www.tceq.state.tx.us/rules/indxpdf.html#117.

For a detailed discussion of each of the above changes and why EPA believes they should be approved see the Technical Support Document for this action.

4. What sections of the May 30, 2007, SIP revision will not become part of the Texas SIP?

Per TCEQ's request the following sections, listed in Table 4 below, of the May 30, 2007, SIP revision will not become a part of the EPA-approved Texas SIP. These rules mainly pertain to the control of ammonia or carbon monoxide emissions which are not ozone precursors and therefore, these rules are not necessary components of the Texas SIP. The rules listed in Table 4 are not already in the current Texas SIP and EPA continues to agree with Texas that these rules can remain outside the SIP.

Table 4.—Sections of Chapter 117 Not in EPA-Approved Texas SIP
Section No. | Explanation
117.110(c), 117.125, 117.210(c), 117.225, 117.310(c), 117.325, 117.410(d), 117.425, 117.1010(b), 117.1025, 117.1110(b), 117.1125, 117.1210(b), 117.1225, 117.1310(b), 117.1325, 117.2010(i), 117.2025, 117.2110(h), 117.2125, 117.3010(e), 117.3025, 117.3123(f), 117.3125, 117.3310(e), and 117.3325 | Not a part of EPA-approved Texas SIP and TCEQ continues to ask that these rules remain outside the SIP.

Although the above sections of 30 TAC Chapter 117 are not to become a part of the Texas SIP they will continue to remain enforceable at the State level.

5. What sections of the May 30, 2007 SIP revision are we not acting upon in this proposal?

We are not evaluating the cement kiln related sections of the May 30, 2007 SIP revision, in this document. See Table 5 below. We will review and act upon the cement kiln related sections of the May 30, 2007 SIP revision in a separate rulemaking action.

Table 5.—Sections of Chapter 117 Not Being Evaluated in This Rulemaking
Section No. | Explanation
117.3100, 117.3101, 117.3103, 117.3110, 117.3120, 117.3123, 117.3125, 117.3140, 117.3142, and 117.3145 | Cement kiln related, not evaluating in this rulemaking action.

6. What Counties in the D/FW area will the May 30, 2007 SIP revision affect?

Table 6 below lists the Counties in the D/FW 8-hour ozone nonattainment area that will be affected by the May 30, 2007 SIP revision.

Table 6.—Texas counties in the D/FW 8-Hour Ozone Nonattainment Area
D/FW Counties | Explanation
Collin, Dallas, Denton, Ellis, Johnson, Kaufman, Parker, Rockwall, and Tarrant | See section 117.10(2)(C).

7. What Counties in East and Central Texas will the May 30, 2007 SIP revision affect?

Table 7 below lists the Counties in the East and Central Texas that will be affected by the May 30, 2007 SIP revision.

Table 7.—Counties Part of the East and Central Texas Provision of Chapter 117
East and Central Texas counties | Explanation
Anderson, Brazos, Burleson, Camp, Cass, Cherokee, Franklin, Freestone, Gregg, Grimes, Harrison, Henderson, Hill, Hopkins, Hunt, Lee, Leon, Limestone, Madison, Marion, Morris, Nacogdoches, Navarro, Panola, Rains, Robertson, Rusk, Shelby, Smith, Titus, Upshur, Van Zandt, and Wood | See section 117.10(14)(B).

8. What is ozone and why do we regulate it?

Ozone is a gas composed of three oxygen atoms. Ground level ozone is generally not emitted directly from a vehicle's exhaust or an industrial smokestack, but is created by a chemical reaction between NOX and VOCs in the presence of sunlight and high ambient temperatures. Thus, ozone is known primarily as a summertime air pollutant. NOX and VOCs are precursors of ozone. Motor vehicle exhaust and industrial emissions, gasoline vapors, chemical solvents and natural sources emit NOX and VOCs. Urban areas tend to have high concentrations of ground-level ozone, but areas without significant industrial activity and with relatively low vehicular traffic are also subject to increased ozone levels because wind carries ozone and its precursors hundreds of miles from their sources.

Repeated exposure to ozone pollution may cause lung damage. Even at very low concentrations, ground-level ozone triggers a variety of health problems including aggravated asthma, reduced lung capacity, and increased susceptibility to respiratory illnesses like pneumonia and bronchitis. It can also have detrimental effects on plants and ecosystems.

9. What are NOX?

Nitrogen oxides belong to the group of criteria air pollutants. NOX are produced from burning fuels, including gasoline and coal. Nitrogen oxides react with volatile organic compounds (VOC) to form ozone or smog, and are also major components of acid rain. Also see http://www.epa.gov/air/urbanair/nox/.

10. What is a SIP?

The SIP is a set of air pollution regulations, control strategies, other means or techniques and technical analyses developed by the state, to ensure that the state meets the NAAQS. The SIP is required by Section 110 and other provisions of the Act. These SIPs can be extensive, containing state regulations or other enforceable documents and supporting information such as emissions inventories, monitoring networks, and modeling demonstrations. Each state must submit these regulations and control strategies to EPA for approval and incorporation into the Federally-enforceable SIP. Each Federally-approved SIP protects air quality primarily by addressing air pollution at its point of origin.

11. What areas in Texas will today's rulemaking action affect?

The substantive rule revisions we are proposing to approve today mainly affect the D/FW 8-hour ozone nonattainment area. See section 6 of this document. The substantive rule revisions we are proposing to approve today also affect 33 counties in East and Central Texas. See section 7 of this document. If you are in one of these affected areas, you should refer to the Texas NOX rules to determine if and how today's action will affect you.

As stated elsewhere in this document the D/FW 8-hour ozone nonattainment area (Collin, Dallas, Denton, Tarrant, Ellis, Johnson, Kaufman, Parker, and Rockwall Counties) is designated nonattainment, and classified as a moderate 8-hour non-attainment area for ozone. See 69 FR 23857 published April 30, 2004.

12. What is the section 110(l) “anti-backsliding” analysis for the May 30, 2007 SIP revision?

According to section 110(l) of the Act “each revision to an implementation plan submitted by a State under this Act shall be adopted by such State after reasonable notice and public hearing. The Administrator shall not approve a revision of a plan if the revision would interfere with any applicable requirement concerning attainment and reasonable further progress (as defined in section 171), or any other applicable requirement of this Act.”

• The May 2007 SIP submittal includes documentation that the State has met and complied with the reasonable notice and public hearing requirements. The State held public hearings after proper notice and according to the 40 CFR 51.102 requirements. Proper notice included prominent advertisement in the areas affected at least 30 days prior to the dates of the hearings. The hearing notices of intended action were circulated to the public, including interested persons, EPA Region 6, and all applicable local air pollution control agencies. Public hearings were held in Houston, Dallas, Arlington, Midlothian, Longview, and Austin, Texas. The May 2007 SIP submittal contains information to the effect that State has met and complied with the reasonable notice and public hearing requirements. For more information see our SIP Completeness Determination document, prepared in accordance with the Appendix V of 40 CFR 51, made part of the EPA-R06-OAR-2007-0523 docket, and available for public review. Therefore, it is our finding that this revision submitted by Texas under the Act has been adopted by Texas after reasonable notice and public hearing.

• The May 2007 SIP submittal requires NOX reductions from sources located outside the D/FW nine-County area. The resulting NOX reductions should assist in bringing the D/FW area into attainment with the 8-hour ozone NAAQS. Sources outside the D/FW nine county area, now regulated by these rules include, gas-fired stationary reciprocating internal combustion engines operating in East Texas (see 117.3310(a) and 117.3010(a)). NOX emissions from these units were not regulated before. These units are located in Texas Counties that are designated as attainment for ozone NAAQS. These Texas Counties are Anderson, Brazos, Burleson, Camp, Cass, Cherokee, Franklin, Freestone, Gregg, Grimes, Harrison, Henderson, Hill, Hopkins, Hunt, Lee, Leon, Limestone, Madison, Marion, Morris, Nacogdoches, Navarro, Panola, Rains, Robertson, Rusk, Shelby, Smith, Upshur, Van Zandt, and Wood. It is estimated that these revisions will result in 22.4 TPD of NOX reductions.

• The May 2007 SIP submittal provides for additional NOX emissions reductions that were not previously a part of the EPA-approved Texas SIP. The May 2007 SIP submittal requires NOX reductions from major sources or major source categories not previously regulated. An example listing of such sources or categories is as follows: stationary diesel engines in the D/FW nine-County area (see 117.410(b)(4)), stationary reciprocating internal combustion engines located in the D/FW nine county area (see 117.410(a) and (b)), metallurgical furnaces (see 117.410(b)(8)), container glass furnaces (see 117.410(b)(10)(A)), and fiberglass furnaces (see 117.410(b)(10)(B) through (D)). These new regulations provide an additional 8.88 tons/day of reductions.

• The May 2007 SIP submittal provides for additional NOX emissions reductions that were not previously a part of the EPA-approved Texas SIP. The May 2007 SIP submittal requires NOX reductions from minor sources within the DFW nine county area not previously regulated. See 117.2110(a)(1), and 117.2010(a)(1) and (2). These rules provide additional NOX emissions reductions that were not previously a part of the EPA-approved Texas SIP. See section 15 of this document.

• The statewide residential water heater rule was revised due to technical infeasibility which means this rule will achieve slightly less reductions than if the approved rule had proved feasible. We believe this small loss in emission reductions will be offset by other measures. This is further discussed in the Technical Support Document. We have discussed the potential impact of the revised water heater rule in our separate action on the 1997 8-hour ozone attainment demonstration for the D/FW area. In that action we explain how the revisions do not interfere with attainment or maintenance of the NAAQS.

For the reasons stated above, the provisions of the May 2007 SIP submittal meet the section 110(l) requirements of the Act.

13. What are the NOX emissions requirements for major point sources in the D/FW area that we are proposing to approve?

We approved NOX emissions specifications for stationary sources in 66 FR 15195 published March 16, 2001. In addition to requiring NOX emissions control requirements for those sources, we are proposing to approve the following NOX emissions requirements for the following affected sources with emissions greater than 50 Tons Per Year (TPY) in the D/FW 8-hour ozone nonattainment area. We have included the Chapter 117 citation for each source category in the Table 8 below for reference purposes.

Table 8.—NOX Emissions Specifications for the D/FW 8-Hour Ozone Nonattainment Area
Source | NOX limit | Additional information | Citation
Reciprocating Internal Combustion Engines | 2.0 g/hp-hr | Natural gas, rich burn, capacity ≥ 300 hp, before January 1, 2000, also a 3.0 g/hp-hr limit of CO | 117.410(a)(1)(B)(i).
Reciprocating Internal Combustion Engines | 0.50 g/hp-hr | Natural gas, rich burn, capacity ≥ 300 hp, on or after January 1, 2000, also a 3.0 g/hp-hr limit of CO | 117.410(a)(9)(B)(ii).
Reciprocating Internal Combustion Engines | 0.60 g/hp-hr | Gas-fired, rich burn, landfill gas | 117.410(b)(4)(A)(i).
Reciprocating Internal Combustion Engines | 0.50 g/hp-hr | Gas-fired, rich burn, not using landfill gas | 117.410(b)(4)(A)(ii).
Reciprocating Internal Combustion Engines | 0.70 g/hp-hr | Gas-fired, lean burn, before June 1, 2007, not modified afterwards | 117.410(b)(4)(B)(i).
Reciprocating Internal Combustion Engines | 0.60 g/hp-hr. | Gas-fired, lean burn, landfill gas, on or after June 1, 2007 | 117.410(b)(4)(B)(ii)(I).
Reciprocating Internal Combustion Engines | 0.50 g/hp-hr | Dual-fuel | 117.410(b)(4)(B)(ii)(II).
Duct Burners | 0.032 lb/MMBtu | Used in turbine exhausts, rated ≥ 10 MW | 117.410(b)(6).
Duct Burners | 0.15 lb/MMBtu | Used in turbine exhausts, 1.0 ( rated < 10 MW | 117.410(b)(6).
Duct Burners | 0.26 lb/MMBtu | Used in turbine exhausts, rated < 1.0 MW | 117.410(b)(6).
Lime Kilns | 3.7 lb/ton of CaO | Individual kiln basis | 117.410(b)(7)(A)(i).
Lime Kilns | 3.7 lb/ton of CaO | Site-wide basis | 117.410(b)(7)(A)(ii).
Ceramic and Brick Kilns | 40% NOX reduction | Using daily 2000 calendar year EI | 117.410(b)(7)(B)(i).
Brick Kilns | 0.175 lb/ton of product | As option | 117.410(b)(7)(B)(ii).
Ceramic Kilns | 0.27 lb/ton of product | As option | 117.410(b)(7)(B)(iii).
Metallurgical Furnaces | 0.087 lb/MMBtu | Heat Furnace, March 1-October 31 any year | 117.410(b)(8)(A).
Metallurgical Furnaces | 0.10 lb/MMBtu | Reheat Furnace, March 1-October 31 any year | 117.410(b)(8)(B).
Metallurgical Furnaces | 0.45 lb/MMBtu | Lead smelting blast cupola and reverberatory | 117.410(b)(8)(C).
Incinerators | 80% NOX reduction | Using real emissions of 2000 EI | 1117.410(b)(9)(A).
Incinerators | 0.030 lb/MMBtu | As option | 117.410(b)(9)(B).
Container Glass Furnaces | 4.0 lb/ton of glass pulled | Melting furnace, within 25% of permitted production capacity, or MAER of permit issued before June 1, 2007 | 117.410(b)(10)(A)(i), or 117.410(b)(10)(A)(ii).
Fiberglass Furnaces | 4.0 lb/ton product pulled | Mineral wool, cold-top electric | 117.410(b)(10)(B).
Fiberglass Furnaces | 1.45 lb/ton product pulled | Mineral wool, regenerative | 117.410(b)(10)(C).
Fiberglass Furnaces | 3.1 lb/ton product pulled | Mineral wool, non-regenerative | 117.410(b)(10)(D).
Curing Ovens | 0.036 lb/MMBtu | Gas fired, used in mineral wool-type or textile-type fiberglass | 117.410(b)(11).
Ovens and Heaters | 0.036 lb/MMBtu | Natural gas-fired | 117.410(b)(12).
Dryers | 0.036 lb/MMBtu | Natural gas-fired, used in organic solvent, printing ink, clay, brick, ceramic tile, calcining, and vitrifying processes | 117.410(b)(13)(A).
Spray Dryers | 0.15 lb/MMBtu | Natural gas-fired, used in ceramic tile manufacturing processes | 117.410(b)(13)(B).

The tables in this document are not intended to be exhaustive, but rather provide a guide for readers regarding NOX control requirements the affected sources are likely to be required to comply with in conjunction with today's rulemaking action. To determine whether or how your facility would be affected by this particular action, you should refer to the actual text of 30 TAC Chapter 117, and the June 8, 2007 issue of the Texas Register (32 TexReg 3206). We are proposing approval of these NOX emissions specifications under Part D of the Act because their resulting emissions reductions will assist Texas in demonstrating attainment of the 8-hour ozone standard in the D/FW 8-hour ozone nonattainment area. Therefore, we are proposing approval of these requirements into the Texas SIP.

14. What are the NOX emission requirements for stationary diesel engines in the D/FW area that we are proposing to approve?

This SIP revision requires reductions of NOX emissions from stationary diesel engines in the D/FW area. The following Table 9 contains a summary of the NOX emission specifications for stationary diesel engines in the D/FW area. We have included the Chapter 117 citation for each source category in the Table 9 below for convenience purposes.

Table 9.—NOX Emission Requirements Stationary Diesel Engines for the D/FW 8-Hour Ozone Nonattainment Area
Source | NOX Emission Specification | Citation
Diesel engines in service before March 1, 2009: not modified, reconstructed, or relocated on or after March 1, 2009 | 11.0 gram/hp-hr | 117.410(b)(4)(D).
Rated less than 50 hp: modified, installed reconstructed, or relocated on or after March 1, 2009 | 5.0 gram/hp-hr | 117.410(b)(4)(E)(i).
50 hp [ rated < 100 hp: modified, installed, reconstructed, or relocated on or after March 1, 2009 | 3.3 gram/hp-hr | 117.410(b)(4)(E)(ii).
100 hp [ rated < 750 hp: installed, modified, reconstructed, or relocated on or after March 1, 2009 | 2.8 gram/hp-hr | 117.410(b)(4)(E)(iii).
Rated ≥ 750 hp: installed, modified, reconstructed, or relocated on or after March 1, 2009 | 4.5 gram/hp-hr | 117.310(b)(4)(E)(iv).

We are proposing to approve the above-listed NOX emission requirements for diesel engines because they are in agreement with those found in 40 CFR section 89.112, and EPA's Document Number 420-R-98-016 dated August 1998, titled “Final Regulatory Impact Analysis: Control of Emissions from Nonroad Diesel Engines.” In addition, the above-listed NOX emission requirements for diesel engines are consistent with those we approved for similar units at Table VI of 66 FR 57230 published on November 14, 2001. We are therefore proposing approval of these NOX emission requirements under Part D of the Act because their resulting emissions reductions will assist Texas in demonstrating attainment of the 8-hour ozone standard within the D/FW 8-hour ozone nonattainment area. Therefore, we are proposing approval of these requirements into the Texas SIP.

15. What are the emissions specifications for minor sources of NOX in D/FW area that we are proposing to approve?

These minor sources include stationary reciprocating internal combustion engines that are not a major source of NOX (emit, when uncontrolled, less than 50 Tons Per Year (TPY) of NOX). See sections 117.2100 and 117.2103 for more information.

Table 10.—NOX Emissions Requirements for Minor Sources in the D/FW Area
Source | NOX emission specification | Additional information | Citation
Reciprocating Internal Combustion Engines | 0.60 g/hp-hr | Stationary, rich-burn, using landfill gas-fired | 117.2110(a)(1)(A)(i).
Reciprocating Internal Combustion Engines | 0.50 g/hp-hr | Stationary, rich-burn, not landfill gas-fired | 117.2110(a)(1)(A)(ii).
Reciprocating Internal Combustion Engines | 0.70 g/hp-hr | Stationary, lean-burn, in service before June 1, 2007 | 117.2010(a)(1)(B)(i).
Reciprocating Internal Combustion Engines | 0.60 g/hp-hr | Stationary, lean-burn, in service on or after June 1, 2007, using landfill gas | 117.2010(a)(1)(B)(i)(I).
Reciprocating Internal Combustion Engines | 0.50 g/hp-hr | Stationary, lean-burn, in service on or after June 1, 2007, not using landfill gas | 117.2010(a)(1)(B)(i)(II).
Reciprocating Internal Combustion Engines | 5.83 g/hp-hr | Stationary, dual-fuel | 117.2010(a)(2).

As an alternative, a minor source from the Table 10 above located within the D/FW and having an annual capacity factor of 0.0383 or less may choose emissions specification of 0.060 lb/MMBtu, instead. See 117.2110(a)(4).

The NOX emissions requirements for the above-listed minor sources of NOX and their resulting emissions reductions will assist in demonstrating attainment of the 8-hour ozone NAAQS within the D/FW 8-hour ozone nonattainment area. Therefore, we are proposing approval of these requirements into the Texas NOX SIP.

16. What are the NOX emissions requirements for stationary RICE in East Texas that we are proposing to approve?

The gas-fired stationary reciprocating internal combustion engines located in Anderson, Brazos, Burleson, Camp, Cass, Cherokee, Franklin, Freestone, Gregg, Grimes, Harrison, Henderson, Hill, Hopkins, Hunt, Lee, Leon, Limestone, Madison, Marion, Morris, Nacogdoches, Navarro, Panola, Rains, Robertson, Rusk, Shelby, Smith, Upshur, Van Zandt, or Wood Texas Counties are subject to these requirements. See section 117.3300 for more information. The following Table 11 contains NOX emissions requirements and related information for these affected units.

On July 19, 2007 TCEQ announced implementation of Texas Senate Bill 2000, passed in 2007 by the 80th Texas Legislative Session. The Bill directs the TCEQ to develop an incentive grant program for the partial reimbursement of capital costs for installing nonselective catalytic reduction (NSCR) systems to reduce emissions of NOX from existing stationary gas-fired rich-burn compressor engines. For more information see http://www.tceq.state.tx.us/implementation/air/rules/sb2003.html (URL dating July 20, 2007).

Table 11.—NOX emissions Requirements for Stationary Reciprocating Internal Combustion Engines in East Texas
Source | NOX Emission specification | Additional information | Citation
Reciprocating Internal Combustion Engines | 1.00 g/hp-hr | Rich burn, gas-fired, capacity < 500 hp | 117.3310(a)(1).
Reciprocating Internal Combustion Engines | 0.60 g/hp-hr | Rich burn, landfill gas-fired, capacity ≥ 500 hp | 117.3010(a)(2)(A).
Reciprocating Internal Combustion Engines | 0.50 g/hp-hr | Rich burn, not landfill gas-fired, capacity ≥ 500 hp | 117.3010(a)(2)(B).

The NOX emissions requirements for the stationary reciprocating internal combustion engines in East and Central Texas and their resulting emissions reductions will assist in demonstrating attainment of the 8-hour ozone NAAQS within the Houston-Galveston-Brazoria, D/FW, and Beaumont/Port Arthur areas. Furthermore, these reductions will contribute to the continued maintenance of the standard in the eastern half of the State of Texas, and they enhance the Texas SIP. Therefore, we are proposing approval of these requirements into the May 30, 2007 Texas SIP under part D, and sections 110 and 116 of the Act, respectively.

17. What are the compliance schedules for NOX emissions sources that we are proposing to approve?

The following Table 12 contains a summary of the NOX-related compliance schedules for major sources, utility generating units, and minor sources affected by the May 30, 2007 SIP revision. See sections 117.9000 through 117.9500 for more information.

Table 12.—NOX Compliance Schedules for Point Sources Under Chapter 117
Source | Compliance date | Additional information | Citation
Major, D/FW | Install all NOX abatement equipment by no later than May 30, 2007 | Increment of Progress (IOP) requirement | 117.9030(a)(1).
Major, D/FW | Submit initial control plan per 117.450 by no later than June 1, 2008. | 8-hour attainment demonstration |
| Comply with emissions requirements by no later than March 1, 2009 when source subject to 117.410(b)(1), (2), (4), (5), (6), (7)(A), (10), and (14) | Requirement | 117.9030(b).
| Diesel and dual-fuel engines comply with testing and hours of operation for testing and maintenance by no later than March 1, 2009
| Gas turbines or IC engines claiming run time exemption comply with the run time requirements by no later than March 1, 2009
D/FW | Submit initial control plan per 117.1350 by no later than June 1, 2008 | Utility electric generation sources | 117.9130(a)(1) and (2).
| Comply with all other requirements by no later than March 1, 2009
Minor, D/FW | Rich-burn, gas-fired stationary RICE comply with NOX requirements by no later than March 1, 2009 | RICE fired with different fuel types | 117.9210.
| Lean-burn, gas-fired stationary RICE comply with NOX requirements by no later than March 1, 2010
| Diesel-fired and dual-fuel stationary RICE comply with NOX requirements by no later than March 1, 2009
East and Central Texas | Updated final control plan per 117.3054 be submitted by no later than January 31, 2007 | Utility electric generation sources | 117.9300(2)(B).
East Texas | Stationary RICE comply with NOX requirements by no later than March 1, 2010 | East Texas combustion sources | 117.9340(a).

Including these compliance dates, summarized in Table 12 above, in the rule provides for enforceability and practicability of the NOX rule, and enhances the May 30, 2007 Texas SIP; therefore, we are proposing their approval into the May 30, 2007 Texas SIP.

III. Proposed Actions

Today, we are proposing to approve revisions to the 30 TAC Chapter 117 into the Texas SIP. This rulemaking covers four separate actions. First, we are proposing to approve the repeal of all non-substantive changes to the SIP's Chapter 117 rules and the reformatting of current Chapter 117 because the reformatted revision will better accommodate future additions/revisions to the rules. Second, we are proposing to approve substantive revisions to the current NOX SIP's Chapter 117 rules for D/FW NOX major point sources. Third, we are proposing to approve substantive revisions to the current Texas SIP's Chapter 117 rules for D/FW minor sources of NOX. Fourth, we are proposing to approve substantive revisions to the current Texas SIP's Chapter 117 rules for combustion sources in East Texas. These NOX reductions will assist the D/FW area in attaining the 8-hour ozone NAAQS.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

Authority: 42 U.S.C. 7401 et seq.

List of Subjects in 40 CFR Part 52

Environmental protection, Air pollution control, Hydrocarbons, Incorporation by reference, Intergovernmental relations, Nitrogen oxide, Reporting and recordkeeping requirements, Volatile organic compounds.

Dated: July 1, 2008.
Richard E. Greene,
Regional Administrator, Region 6.

[FR Doc. E8-15814 Filed 7-10-08; 8:45 am]

BILLING CODE 6560-50-P